DEPARTMENT OF HOMELAND SECURITY

U.S. Citizenship and Immigration Services

[CIS No. 2273-03]

Direct Mail Program for Submitting Form I-485, Application To Register Permanent Residence or Adjust Status; Form I-765, Application for Employment Authorization; and Form I-131, Application for Travel Document; Correction

AGENCY: U.S. Citizenship and Immigration Services, Department of Homeland Security.

ACTION: Notice of correction.

SUMMARY: U.S. Citizenship and Immigration Services (USCIS) published a notice in the Federal Register on November 19, 2004, at 69 FR 67751 which announced the expansion of the Direct Mail Program to provide that certain filings of Forms I-485, I-765, and I-131 be filed at a designated Chicago, Illinois Lockbox Facility for initial processing. That notice, among other things, directed certain aliens applying for work authorization under 8 CFR 274a.12(c)(10), who were described as “aliens granted Suspension of Deportation who are required to file with the USCIS Service Center having jurisdiction,“ to submit their Form I-765, Application for Employment Authorization, to the Chicago Lockbox Facility. This statement was incorrect in two ways. First, 8 CFR 274a(12)(c)(10) provides that an alien “who has filed an application for suspension of deportation.* * *” may be authorized to accept employment in the United States. That provision, however, does not cover an alien who has already been granted suspension of deportation and is not a lawful permanent resident. Aliens already granted suspension of deportation and lawful permanent resident status are employment authorized incident to status and are not required to file for an employment authorization document. Second, the November 19, 2004 Direct Mail Notice was meant to affect only those Form I-765 applicants who, at the time the notice was issued, were required to file their applications at a local USCIS office. USCIS did not intent to change the filing location for those I-765s applications requesting employment authorization under 8 CFR 274.12(c)(10) that were previously filed at and adjudicated by a Service Center, such as those based upon an application for relief pursuant to section 203 of the Nicaraguan Adjustment and Central American Relief Act, Public Law 105-100, as amended. Accordingly, the Federal Register notice needs to be corrected to clarify this point. USCIS hereby corrects the prior notice to clearly provide that only applicants who are seeking employment authorization pursuant to 8 CFR 274.12(c)(10) based upon having filed an application for suspension of deportation pursuant to section 244 of the Immigration and Nationality Act (INA) or cancellation of removal pursuant to section 240A of the INA must submit their Form I-765 to the Chicago Lockbox Facility. Applicants who are seeking employment authorization pursuant to 8 CFR 274.12(c)(10) based upon having field an application for NACARA 203 relief must submit their Form I-765 to the Service Center having jurisdiction over their place of residence.

DATES: This correction is effective December 9, 2005.

FOR FURTHER INFORMATION CONTACT: S. Rebecca Watson, Lockbox Project Manager, U.S. Citizenship and Immigration Services, Department of Homeland Security, 20 Massachusetts Avenue, NW., Room 1100, Washington, DC 20520, Telephone (202) 272-1001.

SUPPLEMENTARY INFORMATION:

Notice for Correction

As published in the Federal Register on November 19, 2004 (69 FR 67751), the notice contains one error that is in need of correction.

Correction of Publication

Accordingly, the publication on November 19, 2004 969 FR 67751), of the notice that was the subject of FR Doc. 04-25679 is corrected as follows:

1. On page 67752, in the middle column, in the third bullet, the reference to “(c)(10)—Aliens granted Suspension of Deportation who are required to file with the USCIS Service Center having jurisdiction;” is corrected to read: “(c)(10)—Aliens who have filed an application for suspension of deportation or cancellation of removal, except those who have filed an application for NACARA 203 relief;”

Dated: December 6, 2005.
Richard A. Sloan,
Director, Regulatory Management Division, U.S. Citizenship and Immigration Services.

[FR Doc. 05-23842 Filed 12-8-05; 8:45 am]

BILLING CODE 4410-10-M